DEPARTMENT OF HOMELAND SECURITY

Federal Emergency Management Agency

[Docket ID FEMA-2018-0002; Internal Agency Docket No. FEMA-B-1825]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with the Code of Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Dated: May 1, 2018.
David I. Maurstad,
Deputy Associate Administrator for Insurance and Mitigation (Acting), Department of Homeland Security, Federal Emergency Management Agency.

State and county | Location and case No. | Chief executive officer of community | Community map repository | Online location of letter of map revision | Date of modification | Community No.
Arkansas:
Benton | City of Centerton (17-06-3374P) | The Honorable Bill Edwards, Mayor, City of Centerton, P.O. Box 208, Centerton, AR 72719 | City Hall, 290 Main Street, Centerton, AR 72719 | https://msc.fema.gov/portal/advanceSearch | Jul. 16, 2018 | 050399
Washington | City of Fayetteville (17-06-3037P) | The Honorable Lioneld Jordan, Mayor, City of Fayetteville, 113 West Mountain Street, Fayetteville, AR 72701 | City Hall, 113 West Mountain Street, Fayetteville, AR 72701 | https://msc.fema.gov/portal/advanceSearch | Jul. 10, 2018 | 050216
Colorado:
Jefferson | City of Arvada (17-08-0958P) | The Honorable Marc Williams, Mayor, City of Arvada, P.O. Box 8101, Arvada, CO 80001 | Engineering Department, 8101 Ralston Road, Arvada, CO 80001 | https://msc.fema.gov/portal/advanceSearch | Jul. 13, 2018 | 085072
Jefferson | City of Arvada (17-08-1484P) | The Honorable Marc Williams, Mayor, City of Arvada, P.O. Box 8101, Arvada, CO 80001 | Engineering Department, 8101 Ralston Road, Arvada, CO 80001 | https://msc.fema.gov/portal/advanceSearch | Jul. 27, 2018 | 085072
Jefferson | Unincorporated areas of Jefferson County (17-08-0958P) | The Honorable Libby Szabo, Chair, Jefferson County Board of Commissioners, 100 Jefferson County Parkway, Golden, CO 80419 | Jefferson County Department of Planning and Zoning, 100 Jefferson County Parkway, Golden, CO 80419 | https://msc.fema.gov/portal/advanceSearch | Jul. 13, 2018 | 080087
Connecticut: Fairfield | Town of Darien (18-01-0005P) | The Honorable Jayme Stevenson, First Selectwoman, Town of Darien, Board of Selectwomen, 2 Renshaw Road, Darien, CT 06820 | Planning and Zoning Department, 2 Renshaw Road, Darien, CT 06820 | https://msc.fema.gov/portal/advanceSearch | Jul. 9, 2018 | 090005
Florida:
Alachua | Unincorporated areas of Alachua County (17-04-7240P) | The Honorable Lee Pinkoson, Chairman, Alachua County Board of Commissioners, 12 Southeast 1st Street, Gainesville, FL 32601 | Alachua County Public Works Department, 5620 Northwest 120th Lane, Gainesville, FL 32653 | https://msc.fema.gov/portal/advanceSearch | Jul. 23, 2018 | 120001
Charlotte | Unincorporated areas of Charlotte County (18-04-0611P) | The Honorable Ken Doherty, Chairman, Charlotte County Board of Commissioners, 18500 Murdock Circle, Suite 536, Port Charlotte, FL 33948 | Charlotte County Community Development Department, 18400 Murdock Circle, Port Charlotte, FL 33948 | https://msc.fema.gov/portal/advanceSearch | Jul. 12, 2018 | 120061
Monroe | Unincorporated areas of Monroe County (18-04-1687P) | The Honorable David Rice, Mayor, Monroe County Board of Commissioners, 1100 Simonton Street, Key West, FL 33040 | Monroe County Building Department, 2798 Overseas Highway, Marathon, FL 33050 | https://msc.fema.gov/portal/advanceSearch | Jul. 9, 2018 | 125129
Monroe | Village of Islamorada (18-04-1511P) | The Honorable Chris Sante, Mayor, Village of Islamorada, 86800 Overseas Highway, Islamorada, FL 33036 | Planning and Development Department, 86800 Overseas Highway, Islamorada, FL 33036 | https://msc.fema.gov/portal/advanceSearch | Jul. 11, 2018 | 120424
Pinellas | City of Indian Rocks Beach (18-04-1507P) | Mr. Brently Gregg Mims, Manager, City of Indian Rocks Beach, 1507 Bay Palm Boulevard, Indian Rocks Beach, FL 33785 | Building Department, 1507 Bay Palm Boulevard, Indian Rocks Beach, FL 33785 | https://msc.fema.gov/portal/advanceSearch | Jul. 23, 2018 | 125117
Volusia | City of Daytona Beach (17-04-3592P) | The Honorable Derrick Henry, Mayor, City of Daytona Beach, 301 South Ridgewood Avenue, Daytona Beach, FL 32114 | Utilities Department, 125 Basin Street, Daytona Beach, FL 32114 | https://msc.fema.gov/portal/advanceSearch | Jul. 27, 2018 | 25099
Volusia | Unincorporated areas of Volusia County (17-04-3592P) | The Honorable Ed Kelley, Chairman, Volusia County Council, 123 West Indiana Avenue, Deland, FL 32720 | Volusia County Building and Zoning Division, 123 West Indiana Avenue, Deland, FL 32720 | https://msc.fema.gov/portal/advanceSearch | Jul. 27, 2018 | 125155
Hawaii: Hawaii | Unincorporated areas of Hawaii County (17-09-1285P) | The Honorable Harry Kim, Mayor, Hawaii County, 25 Aupuni Street, Suite 2603, Hilo, HI 96720 | Hawaii County Department of Public Works, Engineer Division, 101 Pauahi Street, Suite 7, Hilo, HI 96720 | https://msc.fema.gov/portal/advanceSearch | Jul. 12, 2018 | 155166
Mississippi: DeSoto | City of Olive Branch (17-04-5691P) | The Honorable Scott Phillips, Mayor, City of Olive Branch, 9200 Pigeon Roost Road, Olive Branch, MS 38654 | Development & Planning Department, 9200 Pigeon Roost Road, Olive Branch, MS 38654 | https://msc.fema.gov/portal/advanceSearch | Jul. 13, 2018 | 280286
Montana: Mineral | Unincorporated areas of Mineral County (17-08-1399P) | The Honorable Roman Zylawy, Chairman, Mineral County Board of Commissioners, P.O. Box 550, Superior, MT 59872 | Mineral County Building, 300 River Street, Superior, MT 59872 | https://msc.fema.gov/portal/advanceSearch | Jul. 12, 2018 | 300159
North Carolina: Stokes | Unincorporated areas of Stokes County (17-04-7748P) | The Honorable Ronnie Mendenhall, Chairman, Stokes County Board of Commissioners, P.O. Box 20, Danbury, NC 27016 | Stokes County Planning and Inspection Department, 1014 Main Street, Danbury, NC 27016 | https://msc.fema.gov/portal/advanceSearch | Jul. 20, 2018 | 370362
Oklahoma: Washington | City of Bartlesville (17-06-4218P) | The Honorable Dale Copeland, Mayor, City of Bartlesville, 401 South Johnstone Avenue, Bartlesville, OK 74003 | City Hall, 401 South Johnstone Avenue, Bartlesville, OK 74003 | https://msc.fema.gov/portal/advanceSearch | Jul. 12, 2018 | 400220
Pennsylvania:
Lancaster | City of Lancaster (17-03-2630P) | The Honorable Danene Sorace, Mayor, City of Lancaster, P.O. Box 1599, Lancaster, PA 17608 | City Hall, 120 North Duke Street, Lancaster, PA 17608 | https://msc.fema.gov/portal/advanceSearch | Aug. 3, 2018 | 420552
Lancaster | Township of East Lampeter (17-03-2630P) | The Honorable David Buckwalter, Chairman, Township of East Lampeter, Board of Supervisors, 2250 Old Philadelphia Pike, Lancaster, PA 17602 | Township Hall, 2250 Old Philadelphia Pike, Lancaster, PA 17602 | https://msc.fema.gov/portal/advanceSearch | Aug. 3, 2018 | 421771
Lancaster | Township of Lancaster (17-03-2630P) | Mr. William M. Laudien, Manager, Township of Lancaster, 1240 Maple Avenue, Lancaster, PA 17603 | Municipal Office, 1240 Maple Avenue, Lancaster, PA 17603 | https://msc.fema.gov/portal/advanceSearch | Aug. 3, 2018 | 420553
Lancaster | Township of Manheim (17-03-2630P) | Mr. Sean P. Molchany, Manager-Secretary, Township of Manheim, 1840 Municipal Drive, Lancaster, PA 17601 | Planning and Zoning Department, 1840 Municipal Drive, Lancaster, PA 17601 | https://msc.fema.gov/portal/advanceSearch | Aug. 3, 2018 | 420556
Tennessee: Wilson | Unincorporated areas of Wilson County (18-04-1157P) | The Honorable Randall Hutto, Mayor, Wilson County, 228 East Main Street, Room 104, Lebanon, TN 37087 | Wilson County Courthouse, 228 East Main Street, Room 5, Lebanon, TN 37087 | https://msc.fema.gov/portal/advanceSearch | Jul. 11, 2018 | 470207
Texas:
Dallas | City of Rowlett (17-06-2228P) | The Honorable Tammy Dana-Bashian, Mayor, City of Rowlett, 4000 Main Street, Rowlett, TX 75088 | Community Development Building, 3901 Main Street, Rowlett, TX 75088 | https://msc.fema.gov/portal/advanceSearch | Jul. 20, 2018 | 480185
Hays | City of Kyle (17-06-4216P) | The Honorable Travis Mitchell, Mayor, City of Kyle, P.O. Box 40, Kyle, TX 78640 | Stormwater Program and Storm Drainage and Flood Risk Mitigation Utility, 100 West Center Street, Kyle, TX 78640 | https://msc.fema.gov/portal/advanceSearch | Jul. 12, 2018 | 481108
Kaufman | City of Terrell (17-06-3844P) | The Honorable D.J. Ory, Mayor, City of Terrell, P.O. Box 310, Terrell, TX 75160 | Engineering Department, 201 East Nash Street, Terrell, TX 75160 | https://msc.fema.gov/portal/advanceSearch | Jul. 13, 2018 | 480416
Kaufman | Unincorporated areas of Kaufman County (17-06-3844P) | The Honorable Bruce Wood, Kaufman County Judge, 100 West Mulberry Street, Kaufman, TX 75142 | Kaufman County Public Works Department, 3003 South Washington Street, Kaufman, TX 75142 | https://msc.fema.gov/portal/advanceSearch | Jul. 13, 2018 | 480411
Tarrant | City of Fort Worth (17-06-4075P) | The Honorable Betsy Price, Mayor, City of Fort Worth, 200 Texas Street, Fort Worth, TX 76102 | Transportation and Public Works Department, 200 Texas Street, Fort Worth, TX 76102 | https://msc.fema.gov/portal/advanceSearch | Jul. 16, 2018 | 480596
Tarrant | City of Fort Worth (17-06-4082P) | The Honorable Betsy Price, Mayor, City of Fort Worth, 200 Texas Street, Fort Worth, TX 76102 | Transportation and Public Works Department, 200 Texas Street, Fort Worth, TX 76102 | https://msc.fema.gov/portal/advanceSearch | Jul. 16, 2018 | 480596
Williamson | Unincorporated areas of Williamson County (17-06-2076P) | The Honorable Dan A. Gattis, Williamson County Judge, 710 South Main Street, Suite 101, Georgetown, TX 78626 | Williamson County Engineering Department, 3151 South East Inner Loop, Suite B, Georgetown, TX 78626 | https://msc.fema.gov/portal/advanceSearch | Jul. 12, 2018 | 481079
Utah: Grand | Unincorporated areas of Grand County (17-08-1595P) | The Honorable Mary McGann, Chair, Grand County Council, 125 East Center Street, Moab, UT 84532 | Grand County Courthouse, 125 East Center Street, Moab, UT 84532 | https://msc.fema.gov/portal/advancSearch | Jul. 20, 2018 | 490232
Virginia: Prince William | Unincorporated areas of Prince William County (17-03-1866P) | Mr. Christopher E. Martino, Prince William County Executive, 1 County Complex Court, Prince William, VA 22192 | Prince William County, Department of Public Works, 5 County Complex Court, Prince William, VA 22192 | https://msc.fema.gov/portal/advanceSearch | Jul. 12, 2018 | 510119

[FR Doc. 2018-09697 Filed 5-7-18; 8:45 am]

BILLING CODE 9110-12-P